DEPARTMENT OF DEFENSE

Department of the Air Force

[25-0005453-AFRL/RX]

Notice of Intent To Grant an Exclusive Patent License

AGENCY: Department of the Air Force, Department of Defense.

ACTION: Notice of intent.

SUMMARY: Pursuant to the Bayh-Dole Act and implementing regulations, the Department of the Air Force hereby gives notice of its intent to grant an exclusive patent license to Trustees of Tufts College, 136 Harrison Avenue, Suite 75K-950, Boston, Massachusetts 02111, USA. Such license is exclusive.

DATES: Written objections must be filed no later than fifteen (15) calendar days after the date of publication of this Notice.

ADDRESSES: Submit written objections to John J. DePinto and Olivia McCormick, Air Force Research Laboratory, Materials and Manufacturing Directorate, AFRL/RX, 2977 Hobson Way, Wright-Patterson Air Force Base, Ohio 45433-7734; or Email: afrl.rx.t2@us.af.mil, olivia.mccormick@us.af.mil, john.depinto.3@us.af.mil and afmclo.jaz.tech@us.af.mil. Include Docket ARX-210727A-PL in the subject line of the message.

FOR FURTHER INFORMATION CONTACT: John J. DePinto and Olivia McCormick, Air Force Research Laboratory, Materials and Manufacturing Directorate, AFRL/RX, 2977 Hobson Way, Wright-Patterson Air Force Base, Ohio 45433-7734; Telephone: (937) 255-2179; (937) 255-3637; or Email: afrl.rx.t2@us.af.mil, olivia.mccormick@us.af.mil, john.depinto.3@us.af.mil.

SUPPLEMENTARY INFORMATION:

Abstract of Patents and Patent Application(s)

I. Optical-based microneedle (MN) sensors to detect analytes in dermal interstitial fluid in a minimally invasive manner are described. Compared to electrochemical MN strategies, optical sensing is largely unexplored but has numerous potential benefits, including enhanced shelf-life, avoidance of drift, decreased impact of biofouling, and a smaller form factor when not in active use. This strategy also avoids the considerable challenges associated with both implantable optical sensors and sensors that employ skin interstitial fluid wicking/collection for downstream analysis.

Intellectual Property

“Transdermal Optical Silk Microneedle Sensors for Continuous Monitoring for Physiological Analytes in Interstitial Fluid.” The invention is protected under US Provisional Patent Application Serial No. 63/615,081 filed on December 27, 2023, and PCT Patent Application No. PCT/US2024/062043 filed on December 27, 2024.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

(Authority: 35 U.S.C. 209; 37 CFR part 404)

Tommy W. Lee,
Acting Air Force Federal Register Liaison Officer.

[FR Doc. 2025-05321 Filed 3-27-25; 8:45 am]

BILLING CODE 3911-44-P